DEPARTMENT OF COMMERCE

National Oceanic and Atmospheric Administration

External Advisory Panel for NOAA's Oceans and Human Health Initiative

AGENCY: National Ocean Service (NOS), National Oceanic and Atmospheric Administration (NOAA), Department of Commerce.

ACTION: Notice of solicitation of members for an external advisory panel for the NOAA Oceans and Human Health Initiative.

SUMMARY: The Oceans and Human Health Act of 2004 (Pub. L. 108-447) created a national, interagency research program to improve understanding of the role of the oceans in human health. Section 903(a) of this Act authorizes the Secretary of Commerce to establish an Oceans and Human Health Initiative (OHHI) to coordinate and implement research and activities of NOAA related to the role of the oceans, the coasts, and the Great Lakes in human health. The OHHI is further authorized to provide support for (1) Centralized program and research coordination, (2) an advisory panel, (3) one or more NOAA national centers of excellence, (4) research grants, and (5) distinguished scholars and traineeships. Section 903(b) of the OHH Act further authorizes the Secretary of Commerce to establish an oceans and human health advisory panel to assist in the development and implementation of the NOAA OHHI. This advisory panel is to provide for balanced representation of individuals with multi-disciplinary expertise in the marine and biomedical sciences and is not subject to the Federal Advisory Committee Act (5 U.S.C. App.).

Nominations to the OHHI advisory panel are being solicited herein. The intent is to select from the nominees. However, NOAA retains the prerogative to name people to the advisory panel who were not nominated if it deems it necessary to achieve the desired balance. Once selected, NOAA will post the review panel, with abridged resumes, at http://oceanservice.noaa.gov/aaoffice/OHHI/.

DATES: Nominations should be sent to the address specified and must be received within 30 days following the date of publication of this announcement.

ADDRESSES: Nominations should be submitted electronically to Dr. Paul Sandifer (Paul.Sandifer@noaa.gov) or mailed to Dr. Paul Sandifer, c/o Hollings Marine Laboratory, 331 Fort Johnson Road, Charleston, South Carolina 29412.

FOR FURTHER INFORMATION CONTACT: Dr. Paul Sandifer (843) 762-8814.

SUPPLEMENTARY INFORMATION: Panel members shall not be employed by NOAA. Nominations should describe the nominees's contact information and qualifications relative to the criteria given below, or include a resume. Anyone is eligible to nominate, and nominations from organizations and self-nominations are encouraged. The advisory panel is expected to have up to a maximum of 15 members, with a variety of backgrounds (recognizing that it will not be practical to have all backgrounds represented), with respect to:

1. Particularly relevant areas of marine and biomedical sciences, such as:

a. Conservation medicine, diseases of humans, diseases of marine organisms;

b. Epidemiology and human health sciences;

c. Harmful algal bloom (HAB) impacts on public health;

d. Source tracking and environmental microbiology;

e. Marine pharmaceuticals and other natural products;

f. Marine organisms and habitats as models for biomedical research and/or indicators of environmental condition;

g. Pollutants, contaminants, and ecological chemistry;

h. Seafood safety;

i. Remote sensing, observing systems; and predictive models;

j. Ecosystem science and services;

k. Climate change and variability;

l. Genomics and proteomics;

m. Biomaterials, bioengineering, and other techniques for producing marine products, including chemical, aquaculture, and recombinant DNA;

n. Outreach and education; and

o. Social sciences relevant to human health.

2. Experience in academia, within mission-oriented government agencies, non-governmental organizations, and the private sector;

3. Familiarity with NOAA's mandates; and

4. Being a science provider to key generic groups of stakeholders, science interpreter to groups of stakeholders, or stakeholder with a history of interaction with science providers.

The advisory panel members should have the following qualifications:

1. National and international recognition within their profession;

2. Knowledge of the scientific, technical, and biomedical information needed to support NOAA's Oceans and Human Health Initiative, coupled with broad familiarity with NOAA's mission;

3. Knowledge of, and experience with, the organization and management of complex, mission-oriented scientific and/or public health programs; and

4. Ability to represent views of academia, government agencies, non-governmental organizations, or the private business sector.

The qualifications of individuals are expected to be outstanding with respect to one or more, but not necessarily all, of the criteria. Because of the limited size of the advisory panel, management organization expertise must include expertise directly related to ecosystem condition or human health or the very special features of science applied to government decision-making.

The purpose of the OHH advisory panel is to advise NOAA with regard to:

1. Development of overall vision, mission and goals for its OHHI;

2. Preparation and periodic updating of a NOAA OHHI Research Plan;

3. Communication, coordination and integration of OHHI activities with other programs and partners, including but not limited to the NSF/NIEHS Centers of Oceans and Human Health, the Inter-Agency Task Force on Harmful Algal Blooms and Hypoxia, human health academic and medical communities, and state environmental, health and natural resource agencies;

4. OHHI performance and progress;

5. Effectiveness of NOAA's education and outreach efforts; and

6. Such other matters as may be identified.

Initial appointments to the advisory panel will be for three-year terms, and the panel is expected to meet twice yearly.

Dated: August 30, 2005.
John L. Hayes,
Deputy Assistant Administrator for Ocean Services and Coastal Zone Management, National Oceanic and Atmospheric Administration.

[FR Doc. 05-17958 Filed 9-9-05; 8:45 am]

BILLING CODE 3510-JE-M